DEPARTMENT OF AGRICULTURE

Grain Inspection, Packers and Stockyards Administration

Designation for the Pocatello, ID; Evansville, IN; Salt Lake City, UT; and Columbia, SC Areas

AGENCY: Grain Inspection, Packers and Stockyards Administration, USDA.

ACTION: Notice.

SUMMARY: GIPSA is announcing the designation of Idaho Grain Inspection Service (Idaho); Ohio Valley Grain Inspection, Inc. (Ohio Valley); Utah Department of Agriculture and Food (Utah); and South Carolina Department of Agriculture (South Carolina) to provide official services under the United States Grain Standards Act (USGSA), as amended.

DATES: Effective October 1, 2015.

ADDRESSES: Eric J. Jabs, Deputy Director, USDA, GIPSA, FGIS, QACD, 10383 North Ambassador Drive, Kansas City, MO 64153.

FOR FURTHER INFORMATION CONTACT: Eric J. Jabs, 816-659-8408 or Eric.J.Jabs@usda.gov.

Read Applications: All applications and comments are available for public inspection at the office above during regular business hours (7 CFR 1.27(c)).

SUPPLEMENTARY INFORMATION: In the July 1, 2015, Federal Register (80 FR 37581), GIPSA requested applications for designation to provide official services in the geographic areas presently serviced by Idaho, Ohio Valley, Utah, and South Carolina. Applications were due by July 31, 2015.

The current official agencies, Idaho, Ohio Valley, Utah, and South Carolina, were the only applicants for designation to provide official services in these areas. As a result, GIPSA did not ask for additional comments.

GIPSA evaluated the designation criteria in section 79(f) of the USGSA (7 U.S.C. 79(f)) and determined that Idaho, Ohio Valley, Utah, and South Carolina are qualified to provide official services in the geographic area specified in the Federal Register on July 1, 2015. This designation to provide official services in the specified areas of Idaho, Ohio Valley, and Utah is effective October 1, 2015, to September 30, 2018. This designation to provide official services in the specified area of South Carolina is effective October 1, 2015, to September 30, 2017.

Interested persons may obtain official services by contacting these agencies at the following telephone numbers:

Official agency | Headquarters location and telephone | Designation start | Designation end
Idaho | Pocatello, ID, 208-233-8303 | 10/1/2015 | 9/30/2018
Ohio Valley | Evansville, IN, 812-423-9010 | 10/1/2015 | 9/30/2018
Utah | Salt Lake City, UT, 801-538-7100 | 10/1/2015 | 9/30/2018
South Carolina | Columbia, SC, 803-737-4597 | 10/1/2015 | 9/30/2017

Section 79(f) of the USGSA authorizes the Secretary to designate a qualified applicant to provide official services in a specified area after determining that the applicant is better able than any other applicant to provide such official services (7 U.S.C. 79 (f)).

Larry Mitchell,
Administrator, Grain Inspection, Packers and Stockyards Administration.

[FR Doc. 2016-06987 Filed 3-28-16; 8:45 am]

BILLING CODE 3410-KD-P